DEPARTMENT OF TRANSPORTATION

Maritime Administration

[Docket No. MARAD-2024-0105]

Request for Comments on the Renewal of a Previously Approved Information Collection: Title XI Obligation Guarantees

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0018 (Title XI Obligations Guarantees) will be used to evaluate an applicant's project and capabilities, make the required determinations, and administer any agreements executed upon approval of loan guarantees. This collection is being updated to include minor changes to the instructions to streamline the data collection process through electronic submission capability. There is also a reduction in the public burden since the last renewal. We are required to publish this notice in the Federal Register to obtain comments from the public and affected agencies. A 60-day Federal Register Notice soliciting comments on this information collection was published on May 3, 2024 (Federal Register (FR) 36847, Vol. 89, No. 87) indicating comments should be submitted on or before July 2, 2024. No comments were received.

ADDRESSES: Written comments and recommendations for the proposed information collections should be sent within 30 days of publication of this notice to www.reginfo.gov/public/do/PRAMain. Find this particular information collection by selecting “Currently under 30-day Review—Open for Public Comments” or by using the search function.

FOR FURTHER INFORMATION CONTACT: David Gilmore, Director, 202-366-5737, Office of Marine Financing, Maritime Administration, U.S. Department of Transportation, 1200 New Jersey Avenue SE, Washington, DC 20590, Email: marinefinaning@dot.gov.

SUPPLEMENTARY INFORMATION:

Title: Title XI Obligations Guarantees—46 CFR part 298.

OMB Control Number: 2133-0018.

Type of Request: Extension with Change of a Previously Approved Collection.

Abstract: In accordance with 46 U.S.C. chapter 537, MARAD is authorized to execute a full faith and credit guarantee by the United States of debt obligations issued to finance or refinance the construction or reconstruction of vessels. In addition, the program allows for financing shipyard modernization and improvement projects.

Respondents: Individuals/businesses interested in obtaining loan guarantees for construction or reconstruction of vessels as well as businesses interested in shipyard modernization and improvements.

Affected Public: Business and other for-profit.

Estimated Number of Respondents: 5.

Estimated Number of Responses: 5.

Estimated Hours per Response: 150.

Annual Estimated Total Annual Burden Hours: 750.

Frequency of Response: Once Annually.

(Authority: The Paperwork Reduction Act of 1995; 44 U.S.C. chapter 35, as amended; and 49 CFR 1.49.)

By Order of the Maritime Administrator.
T. Mitchell Hudson, Jr.
Secretary, Maritime Administration.

[FR Doc. 2024-17054 Filed 8-1-24; 8:45 am]

BILLING CODE 4910-81-P